DEPARTMENT OF HEALTH AND HUMAN SERVICES

Centers for Disease Control and Prevention

Advisory Committee on Childhood Lead Poisoning Prevention: Notice of Charter Renewal

This gives notice under the Federal Advisory Committee Act (Pub. L. 92-463) of October 6, 1972, that the Advisory Committee on Childhood Lead Poisoning Prevention, Centers for Disease Control and Prevention of the Department of Health and Human Services, has been renewed for a 2-year period extending through October 31, 2007.

For further information, contact Mary Jean Brown, R.N., Sc.D., Executive Secretary, Advisory Committee on Childhood Lead Poisoning Prevention, Centers for Disease Control and Prevention of the Department of Health and Human Services, 4470 Buford Highway, M/S F40 Atlanta, Georgia 30441.

The Director, Management Analysis and Services Office, has been delegated the authority to sign Federal Register notices pertaining to announcements of meetings and other committee management activities, for both the Centers for Disease Control and Prevention and the Agency for Toxic Substances and Diseases Registry.

Dated: November 17, 2005.
Alvin Hall,
Director, Management Analysis and Services Office, Centers for Disease Control and Prevention.

[FR Doc. 05-23370 Filed 11-25-05; 8:45 am]

BILLING CODE 4163-18-M